DEPARTMENT OF THE INTERIOR

Bureau of Land Management

[AK-931-1310-DT-NPRA]

Notice of Availability of the Amendment to the Northeast National Petroleum Reserve-Alaska Final Integrated Activity Plan/Environmental Impact Statement

AGENCY: Bureau of Land Management, Interior.

ACTION: Notice of availability.

SUMMARY: The Amendment to the Northeast National Petroleum Reserve-Alaska (NPR-A) Final Integrated Activity Plan/ Environmental Impact Statement (IAP/EIS) will be made available to the public for a 30-day period beginning on the date the Environmental Protection Agency (EPA) files a Notice of Availability of the Final IAP/EIS in the Federal Register. The EPA notice is expected to occur on or about January 28, 2005. A Record of Decision (ROD) will be issued after the 30-day availability period. The ROD will identify the selected alternative as well as mitigation measures.

The Final IAP/EIS addresses two primary objectives for the amendment of the Northeast National Petroleum Reserve-Alaska IAP/EIS.

1. Consider making available all or portions of lands currently closed to oil and gas leasing in the Planning Area; and,

2.Consider developing performance-based lease stipulations and ROPs to provide the BLM greater flexibility in protecting important surface resources from the impacts of oil and gas activities, similar to those developed for the Northwest National Petroleum Reserve—Alaska.

Location of the Document: The Final IAP/EIS will be available in either hard copy or on compact disk at the Alaska State Office, Public Information Center at 222 West 7th Avenue, Anchorage, Alaska 99513-7599. Copies of the Final IAP/EIS will also be available at the following locations: Tuzzy Public Library, Barrow, Alaska; City of Nuiqsut, Nuiqsut, Alaska; City of Atqasuk, Atqasuk, Alaska; City of Anaktuvuk Pass, Anaktuvuk Pass, Alaska; City of Bethel, Bethel, Alaska, Z. J. Loussac Public Library, Anchorage, AK; Noel Wien Public Library, Fairbanks, AK.

The final IAP/EIS will also be available on the project Web site at http://nenpra.ensr.com/nenpra/default.html.

FOR FURTHER INFORMATION CONTACT: Susan Childs, BLM Alaska State office (907) 271-1985.

SUPPLEMENTARY INFORMATION: The Northeast Planning Area (Planning Area) boundary encompasses approximately 4.6 million acres located in the northeastern portion of the National Petroleum Reserve-Alaska. The Planning Area is roughly bounded by the Beaufort Sea to the North, the Ikpikpuk River to the west and the Colville River to the east and south of the planning area. The 1998 Record of Decision (ROD) for the Northeast Planning area provided 87% of the area for oil and gas leasing; however, approximately 840,000 acres, much of the area surrounding the Teshekpuk Lake, including the lake, was made unavailable for leasing under the 1998 ROD. In 2002, the President's National Energy Policy Development Group recommended that the President direct the Secretary of the Interior to consider additional environmentally responsible oil and gas development, based on sound science and the best available technology, through further lease sales in the National Petroleum Reserve-Alaska and that such consideration should include areas not currently leased within the northeast corner of the National Petroleum Reserve-Alaska. In addition, Public Law 96-514 of December 12, 1980, amended the NPRPA authorizing oil and gas leasing in the reserve and as codified in 42 U.S.C. 6508 stated, “There shall be conducted, not withstanding any other provision of law and pursuant to such rules and regulations as the Secretary may prescribe, an expeditious program of competitive leasing of oil and gas in the National Petroleum Reserve in Alaska; provided, that: (1) Activities undertaken pursuant to this section shall include or provide for such conditions, restrictions, and prohibitions as the Secretary deems necessary or appropriate to mitigate reasonably foreseeable and significantly adverse effects on the surface resources of the National Petroleum Reserve in Alaska * * *.” In exercising this authority a revised Preferred Alternative which incorporates additional surface protection measures has been developed to safeguard important resources and subsistence activities. This Final IAP/EIS amendment contains four alternatives for a land management plan for the 4.6 million-acre planning area and assessments of each plan's impacts on the surface resources present there, as well as the cumulative effects of each alternative.

A Draft Amended IAP/EIS was made available for a 76-day comment period on June 9, 2004. Scoping and comment meetings on the Draft IAP/EIS were held in Bethel, Nuiqsut, Atqasuk, Barrow, Anaktuvuk Pass, Fairbanks, Anchorage, and Washington, DC. The Northeast Planning Area provides particularly important habitat for caribou, waterfowl, subsistence species, and other waterfowl. Many of the local residents of the area rely on harvesting these resources for subsistence purposes. Ensuring adequate protection of these resources has been one of the main focuses of public comment. The BLM held public hearings on subsistence as well as public hearings on the Draft IAP/EIS. The first set of subsistence hearings was held in conjunction with the public hearings on the Draft IAP/EIS during the weeks of June 28, August 9 and 16 in Bethel, Nuiqsut, Atqasuk, Barrow, Anaktuvuk Pass, Fairbanks, Anchorage (all in Alaska) and Washington, DC. An additional set of subsistence hearings was held in the effected Alaska North Slope communities of Nuiqsut, Ataqasuk, Barrow and Anaktuvuk Pass, Alaska, as well as the community of Bethel, Alaska, in the Yukon Delta, during the weeks of October 25 and November 29. Under the final Preferred Alternative, approximately 4,389,000 acres of BLM administered subsurface estate within the Planning Area would be available for oil and gas leasing. Teshekpuk Lake would be deferred from oil and gas leasing under this alternative. In addition, there would be no recommended Wilderness Study Areas or Wild and Scenic Rivers. Lease stipulations and required operating procedures under the final Preferred Alternative, would establish setbacks prohibiting permanent facilities within ¼ to 1 mile along major rivers and 1 to 3 miles along Fish Creek; ¼ mile shoreward from deep water lakes and ¾ mile along coastal areas, to protect subsistence resources/activities and other important surface resources. No Surface Occupancy for permanent oil and gas development stipulations were included which would protect goose molting areas, caribou movement corridors, and the southern caribou calving grounds. Multi-year studies would be required prior to development to protect spectacled and Steller's eiders, yellow-billed loons, and caribou. Other stipulations and required operating procedures would establish restrictions and guidance that apply to waste prevention and spills, water use, winter overland moves and seismic activity, exploratory drilling, aircraft use and subsistence consultation.

The no action alternative calls for continuation of current management, which does provide for continued leasing in the area previously made available for oil and gas leasing through the 1998 Northeast National Petroleum Reserve-Alaska IAP/EIS and Record of Decision. Alternatives A through C make progressively more land, available for oil and gas leasing. The final Proposed Action, Altnerative D, would make a more land available Alternatives A, but less land available than Alternatives B or C. Alternative A, makes available 87% of the planning area available for oil and gas leasing; Alternative B makes 96% percent of the planning area available for oil and gas leasing; Alternative C makes 100% of the planning area available for oil and gas leasing; and the final Proposed Action, Alternative D, makes approximately 95% available for oil and gas leasing. Performance-based stipulations and (ROPs) would provide protection for natural and cultural resources under all alternatives: B, C, and D, but their nature, number and scope varies between the alternatives. Alternative A, the No Action Alternative, would continue to protect the planning area with stipulations implemented throughout the 1998 Northeast Record of Decision.

Dated: December 6, 2004.
Henri R. Bisson,
State Director, Alaska.

[FR Doc. 05-1730 Filed 1-27-05; 8:45 am]

BILLING CODE 4310-JA-P